DEPARTMENT OF TRANSPORTATION

Federal Aviation Administration

14 CFR Part 71

[Docket No. FAA-2022-0215; Airspace Docket No. 19-AAL-61]

RIN 2120-AA66

Amendment of United States Area Navigation (RNAV) Route T-228 in the Vicinity of Cape Newenham, AK

AGENCY: Federal Aviation Administration (FAA), DOT.

ACTION: Final rule; correction.

SUMMARY: The FAA is correcting a final rule published by the FAA in the Federal Register on July 24, 2023, that amends United States Area Navigation (RNAV) route T-228 in the vicinity of Cape Newenham, AK, in support of a large and comprehensive T-route modernization project for the state of Alaska. The geographical coordinates listed for ZIKNI, AK, Waypoint (WP) and RUFVY, AK, WP in the route description are incorrect.

DATES: Effective date 0901 UTC, October 5, 2023. The Director of the Federal Register approves this incorporation by reference action under 1 CFR part 51, subject to the annual revision of FAA Order JO 7400.11 and publication of conforming amendments.

ADDRESSES: FAA Order JO 7400.11G, Airspace Designations and Reporting Points, and subsequent amendments can be viewed online at https://www.faa.gov/air_traffic/publications/. For further information, you can contact the Rules and Regulations Group, Federal Aviation Administration, 800 Independence Avenue SW, Washington, DC 20591; telephone: (202) 267-8783.

FOR FURTHER INFORMATION CONTACT: Steven Roff, Rules and Regulations Group, Office of Policy, Federal Aviation Administration, 800 Independence Avenue SW, Washington, DC 20591; telephone: (202) 267-8783.

SUPPLEMENTARY INFORMATION:

History

The FAA published a final rule for Docket No. FAA-2022-0215 in the Federal Register (88 FR 47366; July 24, 2023), that amended RNAV route T-228 in the vicinity of Cape Newenham, AK. The geographical coordinates listed for the ZIKNI, AK, WP and RUFVY, AK, WP in the route descriptions are incorrect.

Correction to Final Rule

Accordingly, pursuant to the authority delegated to me, the longitude degrees for ZIKNI, AK, WP and RUFVY, AK, WP reflected in Docket No. FAA-2022-0215, as published in the Federal Register of July 24, 2023 (88 FR 47366), FR Doc. 2023-15584, on page 47367, the geographical coordinates for RNAV route T-228 in the vicinity of Cape Newenham, AK are corrected to read as follows:

* * * * *

T-228 ZIKNI, AK to ROCES, AK [Amended]
ZIKNI, AK | WP | (Lat. 58°39′21.68″ N, long. 162°04′13.87″ W)
RUFVY, AK | WP | (Lat. 59°56′34.16″ N, long. 164°02′03.72″ W)
Hooper Bay, AK (HPB) | VOR/DME | (Lat. 61°30′51.65″ N, long. 166°08′04.13″ W)
Nome, AK (OME) | VOR/DME | (Lat. 64°29′06.39″ N, long. 165°15′11.43″ W)
HIPIV, AK | WP | (Lat. 66°15′29.11″ N, long. 166°03′23.59″ W)
ECIPI, AK | WP | (Lat. 67°55′48.11″ N, long. 165°29'58.07″ W)
Barrow, AK (BRW) | VOR/DME | (Lat. 71°16′24.33″ N, long. 156°47'17.22″ W)
Deadhorse, AK (SCC) | VOR/DME | (Lat. 70°11′57.11″ N, long. 148°24′58.17″ W)
ROCES, AK | WP | (Lat. 70°08′34.29″ N, long. 144°08′15.59″ W)

* * * * *

Issued in Washington, DC, on July 27, 2023.
Karen L. Chiodini,
Acting Manager, Rules and Regulations Group.

[FR Doc. 2023-16318 Filed 8-9-23; 8:45 am]

BILLING CODE 4910-13-P